DEPARTMENT OF HEALTH AND HUMAN SERVICES

Centers for Disease Control and Prevention

Disease, Disability, and Injury Prevention and Control Special Emphasis Panel (SEP): Public Health Prevention Fund: Streamlined Surveillance for Venilator-Associated Pneumonia: Reducing Burden and Demonstrating Preventability, Funding Opportunity Announcement (FOA) CK11-0010101PPHF11, Initial Review

Correction: The notice was published in the Federal Register on April 18, 2011, Volume 76, Number 74, Page 21749. The time and date should read as follows:

Time and Date: 11 a.m.-2 p.m., May 26, 2011 (Closed).

Contact Person for More Information: Gregory Anderson, M.S., M.P.H., Scientific Review Officer, CDC, 1600 Clifton Road, NE., Mailstop E60, Atlanta, Georgia 30333, Telephone: (404) 498-2293.

The Director, Management Analysis and Services Office, has been delegated the authority to sign Federal Register notices pertaining to announcements of meetings and other committee management activities, for both the Centers for Disease Control and Prevention and the Agency for Toxic Substances and Disease Registry.

Dated: May 19, 2011.
Elaine L. Baker,
Director, Management Analysis and Services Office, Centers for Disease Control and Prevention.

[FR Doc. 2011-12973 Filed 5-24-11; 8:45 am]

BILLING CODE 4163-18-P